DEPARTMENT OF AGRICULTURE

Forest Service

Huron-Manistee National Forests, Michigan, USA and State South Branch 1-8 Well

AGENCY: Forest Service, USDA.

ACTION: Withdrawal of notice of intent to prepare an environmental impact statement.

Authority: 36 CFR 220.5(c)

SUMMARY: The Huron-Manistee National Forests (Forest Service) and the Bureau of Land Management (BLM), as a Cooperating Agency, proposed to prepare an environmental impact statement (EIS) to assess the environmental impacts of an industry proposal to drill one exploratory natural gas well, the USA & State South Branch 1-8 (SB 1-8) well, on National Forest System lands. The leaseholder has withdrawn their application for permit to drill therefore this project has been cancelled. This notice cancels the notice of intent to prepare and environmental impact statement.

DATES: The Notice of Intent to prepare and environmental impact statement for the USA and State South Branch 1-8 Well was published on February 24, 2010 with a corrected notice published on March 12, 2010. A revised Notice of Intent was published on January 11, 2012. The Draft was expected in November 2012 and the Final EIS was expected by June 2013.

FOR FURTHER INFORMATION CONTACT: Ken Arbogast, Huron-Manistee National Forests; telephone: 231-775-2421; fax: 231-775-5551. See address above under Addresses. Copies of documents may be requested at the same address. Another means of obtaining information is to visit the Forest Web page at www.fs.fed.us/r9/hmnf then click on “NEPA Projects and Planning”, then “Old Project page”, then “Mio projects”, and then “USA and State South Branch 1-8”.

Individuals who use telecommunication devices for the deaf (TTY) may call 1-231-775-3183.

SUPPLEMENTARY INFORMATION: The original notice of intent to prepare the environmental impact statement for the USA and State South Branch Well was published on February 24, 2010 (Vol. 75, No. 36, pages 8297-8299) with a corrected notice published on March 12, 2010 (Vol. 75, No. 48, pages 11838-11839). A revised Notice of Intent was published on January 11, 2012 (Vol 77, No. 7, page 1665).

Responsible Official for Lead Agency

Barry Paulson, Forest Supervisor, Huron-Manistee National Forests, 1755 S. Mitchell Street, Cadillac, MI 49601.

Responsible Official for Cooperating Agency

Mark Storzer, Field Manager, Bureau of Land Management, Milwaukee Field Office, 626 E. Wisconsin Ave. Suite 200, Milwaukee, WI 53202-4617.

Dated: September 18, 2012.
Barry Paulson,
Forest Supervisor.

[FR Doc. 2012-23458 Filed 9-21-12; 8:45 am]

BILLING CODE 3410-11-P